ENVIRONMENTAL PROTECTION AGENCY

[FRL-9506-2]

Clean Air Act Operating Permit Program; Petition for Objection to State Operating Permit for Murphy Oil USA, Inc., Meraux Refinery in St. Bernard Parish, LA

AGENCY: Environmental Protection Agency (EPA).

ACTION: Notice of final action.

SUMMARY: This document announces that the EPA Administrator has responded to a citizen petition asking EPA to object to an operating permit (Permit Number 2500-00001-V5) issued by the Louisiana Department of Environmental Quality (LDEQ). Specifically, the Administrator has granted in part and denied in part the December 10, 2009 petition, submitted by Tulane Environmental Law Clinic on behalf of Concerned Citizens Around Murphy (Petitioners). The petition asked the Administrator to object to the October 15, 2009 operating permit that LDEQ issued to Murphy Oil, USA, Inc. (Murphy Oil) for the Meraux Refinery. Pursuant to sections 307(b) and 505(b)(2) of the Clean Air Act (CAA), a petition for judicial review of those parts of the Order that deny issues in the petition may be filed in the United States Court of Appeals for the appropriate circuit within 60 days from the date this notice appears in the Federal Register.

ADDRESSES: You may review copies of the final Order, the petition, and other supporting information at EPA Region 6, 1445 Ross Avenue Dallas, Texas 75202-2733.

EPA requests that if at all possible, you contact the individual listed in the FOR FURTHER INFORMATION CONTACT section to view copies of the final Order, petition, and other supporting information. You may view the hard copies Monday through Friday, from 9 a.m. to 3 p.m., excluding Federal holidays. If you wish to examine these documents, you should make an appointment at least 24 hours before visiting day. Additionally the final order for the Murphy Oil, Meraux Refinery is available electronically at: http://www.epa.gov/region07/air/title5/petitiondb/petitions/murphy_response2011.pdf.

FOR FURTHER INFORMATION CONTACT: Bonnie Braganza at (214) 665-7340, email address braganza.bonnie @epa.gov, or the above EPA, Region 6 address.

SUPPLEMENTARY INFORMATION: The CAA affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issue arose after this period.

EPA received a petition from the Petitioners dated December 10, 2009, requesting that EPA object to the issuance of the Title V operating permit to Murphy Oil, for the operation of the Meraux Refinery in St. Bernard Parish, Louisiana for the following reasons: (1) Murphy Oil did not provide information sufficient to evaluate the source and its application and to determine applicable requirements; (2) the netting analysis fails to include emergency flaring emissions; (3) the project triggers NSR review for sulfur dioxide and volatile organic compounds; and (4) the netting analyses relies on limitations that are not practically enforceable.

On September 21, 2011, the Administrator issued an order granting in part and denying in part the petition. The order explains the reasons behind EPA's decisions.

Dated: December 5, 2011.
Al Armendariz,
Regional Administrator, Region 6.

[FR Doc. 2011-32061 Filed 12-13-11; 8:45 am]

BILLING CODE 6560-50-P